DEPARTMENT OF COMMERCE

International Trade Administration

[A-428-850]

Thermal Paper From the Federal Republic of Germany: Final Results of Antidumping Duty Administrative Review; 2021-2022

AGENCY: Enforcement and Compliance, International Trade Administration, Department of Commerce.

SUMMARY: The U.S. Department of Commerce (Commerce) determines that Koehler Paper SE and Koehler Kehl GmbH (collectively, Koehler), the sole producer/exporter subject from the Federal Republic of Germany (Germany) subject to this administrative review, made sales of subject merchandise at less than normal value during the period of review (POR), May 12, 2021, through October 31, 2022.

DATES: Applicable June 3, 2024.

FOR FURTHER INFORMATION CONTACT: Ashley Cossaart, AD/CVD Operations, Office IX, Enforcement and Compliance, International Trade Administration, U.S. Department of Commerce, 1401 Constitution Avenue NW, Washington, DC 20230; telephone: (202) 482-0462.

SUPPLEMENTARY INFORMATION:

Background

On November 29, 2023, Commerce published the Preliminary Results and invited interested parties to comment.¹ On March 13, 2024, we extended the deadline of the final results to May 24, 2024.² On April 26, 2024, Domtar Corporation and Appvion, LLC (collectively, the petitioners) submitted a timely-filed case brief.³ On May 1, 2024, Koehler and Matra Americas LLC (Matra) submitted a timely-filed joint rebuttal brief.⁴ For a complete description of the events that occurred since the Preliminary Results, see the Issues and Decision Memorandum.⁵

¹ See Thermal Paper from the Republic of Germany: Preliminary Results of Antidumping Duty Administrative Review; 2021-2022, 88 FR 83397 (November 29, 2023) (Preliminary Results), and accompanying Preliminary Decision Memorandum.

² See Memorandum, “Extension of Deadline for Final Results of 2021-2022 Antidumping Duty Administrative Review,” dated March 13, 2024.

³ See Petitioners' Letter, “Petitioners' Case Brief,” dated April 26, 2024.

⁴ See Koehler and Matra's Letter, “Joint Rebuttal Brief of Koehler Paper SE and Matra Americas, LLC and Matra Atlantic GmbH,” dated May 1, 2024.

⁵ See Memorandum, “Decision Memorandum for the Final Results of the Administrative Review of the Antidumping Duty Order on Thermal Paper from the Republic of Germany; 2021-2022,” dated concurrently with, and hereby adopted by, this notice (Issues and Decision Memorandum).

Scope of the Order ⁶

⁶ See Thermal Paper from Germany, Japan, the Republic of Korea, and Spain: Antidumping Duty Orders, 86 FR 66284 (November 22, 2021) (Order).

The merchandise subject to the Order is thermal paper from Germany. For a complete description of the scope of the Order, see the Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the margin calculations for Koehler. For a discussion of these changes, see the Issues and Decision Memorandum.

Final Results of the Review

As a result of this review, we determine the following estimated weighted-average dumping margin for the period May 12, 2021, through October 31, 2022:

Exporter/ producer | Weighted- average dumping margin (percent)
Koehler Paper SE; Koehler Kehl GmbH | 0.76

Disclosure

Commerce intends to disclose the calculations performed for Koehler in connection with these final results to interested parties within five days of the date of publication of this notice in the Federal Register, in accordance with 19 CFR 351.224(b).

Assessment Rates

Pursuant to section 751(a)(2)(C) of the Tariff Act of 1930, as amended (the Act), and 19 CFR 351.212(b)(1), Commerce has determined, and U.S. Customs and Border Protection (CBP) shall assess, antidumping duties on all appropriate entries of subject merchandise in accordance with the final results of this review.

Pursuant to 19 CFR 351.212(b)(1), because Koehler reported the entered value for all of its U.S. sales, we calculated importer-specific ad valorem antidumping duty assessment rates based on the ratio of the total amount of antidumping duties calculated for the examined sales to the total entered value of the sales for which entered value was reported. Where either Koehler's weighted-average dumping margin is zero or de minimis within the meaning of 19 CFR 351.106(c), or an importer-specific rate is zero or de minimis, we will instruct CBP to liquidate the appropriate entries without regard to antidumping duties.

Commerce's “automatic assessment” will apply to entries of subject merchandise during the POR produced by Koehler for which it did not know that the merchandise it sold to an intermediary (e.g., a reseller, trading company, or exporter) was destined for the United States. In such instances, we will instruct CBP to liquidate those entries at the all-others rate if there is no rate for the intermediate company(ies) involved in the transaction.⁷

⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for Koehler will be the rate shown above; (2) if the exporter is not a firm covered in this review, or the less-than-fair-value (LTFV) investigation, but the manufacturer is, the cash deposit rate will be the rate established for the most recent segment for the manufacturer of the merchandise; and (3) the cash deposit rate for all other manufacturers and/or exporters will continue to be 2.90 percent, the all-others rate established in the LTFV investigation.⁸ These deposit requirements, when imposed, shall remain in effect until further notice.

⁸ See Order, 86 FR at 66286.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

This notice is issued and published in accordance with sections 751(a)(1) and 777(i)(1) of the Act.

Dated: May 24, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Should Apply Facts Available to Koehler's Reporting of U.S. Sales

Comment 2: Whether Commerce Should Attribute Accrued Interest on Unpaid Antidumping Duties to Matra's U.S. Sales

Comment 3: Whether Commerce Should Exclude Certain Post-Sale Adjustments Reported in BILLADJ2H and REBATE2H

Comment 4: Whether Commerce Should Apply Partial Adverse Facts Available to U.S. Credit Expenses

Comment 5: Whether Commerce Should Adjust Matra's Reporting of DINDIRS2U and USINSUR2U

Comment 6: Whether Commerce Should Implement Corrections from Verification

VI. Recommendation

[FR Doc. 2024-12060 Filed 5-31-24; 8:45 am]

BILLING CODE 3510-DS-P